DEPARTMENT OF JUSTICE

Antitrust Division

Notice Pursuant to the National Cooperative Research and Production Act of 1993—Sporting Arms and Ammunition Manufacturers' Institute, Inc.

Notice is hereby given that, on September 15, 2004, pursuant to section 6(a) of the National Cooperative Research and Production Act of 1993, 15 U.S.C. 4301 et seq. (“the Act”), Sporting Arms and Ammunition Manufacturers' Institute, Inc. (“SAAMI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Sporting Arms and Ammunition Manufacturers' Institute, Inc., Newtown, CT. The nature and scope of SAAMI's standards development activities are: To encourage and promote the standardization and simplification of sporting arms and ammunition in the interests of safety and interchangeability within the firearm industry.

Dorothy B. Fountain,
Deputy Director of Operations, Antitrust Division.

[FR Doc. 04-25073 Filed 11-9-04; 8:45 am]

BILLING CODE 4410-11-M